DEPARTMENT OF COMMERCE

International Trade Administration

Import Administration

[A-570-904]

Certain Activated Carbon from the People's Republic of China: Extension of Time Limit for Final Results of Changed Circumstances Review

AGENCY: Import Administration, International Trade Administration, Department of Commerce

EFFECTIVE DATE: October 6, 2009.

FOR FURTHER INFORMATION CONTACT: Katie Marksberry, AD/CVD Operations, Office 9, Import Administration, International Trade Administration, U.S. Department of Commerce, 14th Street and Constitution Avenue NW, Washington, DC 20230; telephone: (202) 482-7906.

SUPPLEMENTARY INFORMATION: On January 27, 2009, the Department of Commerce (“Department”) issued its preliminary results for the changed circumstances review of the antidumping duty order of certain activated carbon from the People's Republic of China. See Certain Activated Carbon from the People's Republic of China: Notice of Initiation and Preliminary Results of Changed Circumstances Review, and Intent to Revoke Order in Part 74 FR 4736 (January 27, 2009) (Preliminary Results). On February 9, 2009, the Department received comments from Applica Consumer Products Inc., an importer of coffeemakers and self-cleaning litter boxes that uses filters. On February 17, 2009, the Department received comments from Calgon Carbon Corporation and Norti Americas Inc., petitioners in this proceeding, and also from Rolf C. Hagen (USA) Corp., the requestor of this changed circumstance review. The current deadline for the final results of this review is October 26, 2009.

Extension of Time Limits for Final Results

In our Preliminary Results, we indicated, pursuant to 19 CFR 351.216(e), that the Department will issue the final results in the instant changed circumstances review within 270 days after the date on which the changed circumstances review is initiated. Currently, the final results of this changed circumstances review are due October 26, 2009. However, as explained below, the Department determines that good cause exists to extend the time limits for completion of this changed circumstances review. Accordingly, pursuant to 19 CFR 351.302(b), we are extending the time limit by 60 days.

Subsequent to the Preliminary Results, the Department received comments from interested parties. Because of those comments, the Department has determined that it requires additional time to analyze the complex issues raised by interested parties regarding the scope exclusion request. Consequently, in accordance with 19 CFR 351.302(b), the Department is extending the time period for issuing the final results in the instant review by 60 days. Therefore, the final results will be due no later than December 25, 2009. As December 25, 2009, is a Federal holiday, our final results will be issued no later than Monday, December 28, 2009.

This notice is published in accordance with sections 751(b) and 777(i) of the Tariff Act of 1930, as amended.

Dated: September 29, 2009.
John M. Andersen,
Acting Deputy Assistant Secretary for Antidumping and Countervailing Duty Operations.

[FR Doc. E9-24066 Filed 10-5-09; 8:45 am]

BILLING CODE 3510-DS-S